DEPARTMENT OF THE INTERIOR

Minerals Management Service (MMS)

Notice of Postponement of Public Hearings and Extension of the Public Comment Period for the Draft Environmental Impact Statement (EIS) for Delineation Drilling Activities in Federal Waters Offshore Santa Barbara County, California

AGENCY: Minerals Management Service, Interior.

ACTION: Announcing a postponement in scheduled public hearings and an extension of the public comment period.

SUMMARY: The Minerals Management Service is postponing the previously scheduled July 10 and 12 public hearings on the draft Environmental Impact Statement on Delineation Drilling Activities in Federal Waters Offshore Santa Barbara County, California (FR Vol. 66, No. 120/June 21, 2001/Doc. 0115639/Page No. 33268). We will announce the dates, times, and locations of the re-scheduled public hearings in the Federal Register and local media when that information is available. We will also extend the public comment period (as announced in the Notice of Availability published in the June 21, 2001, Federal Register), and that date will be provided when the public hearings are rescheduled.

FOR FURTHER INFORMATION CONTACT: Questions concerning the draft EIS, public hearings, or commenting on the EIS should be directed to Mr. Maurice Hill, Minerals Management Service, Office of Environmental Evaluation, Pacific OCS Region, 770 Paseo Camarillo, Camarillo, California 93010-6064. He may be reached by telephone at (805) 389-7815; or you may contact Mr. John Lane at (805) 389-7820.

SUPPLEMENTARY INFORMATION: The June 20, 2001, decision by the U.S. District Court for the Northern District of California requires MMS and the California Coastal Commission to review lease suspensions for the 36 undeveloped OCS oil and gas leases under provisions of the Coastal Zone Management Act. Although the court decision did not address the EIS, the MMS will postpone public hearings on the EIS until we complete action implementing the court's order.

Dated: July 5, 2001.
Carolita U. Kallaur,
Associate Director for Offshore Minerals Management.

[FR Doc. 01-17209 Filed 7-5-01; 2:16 pm]

BILLING CODE 4310-MR-P